RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s):

(1) Collection title: Representative Payee Monitoring.

(2) Form(s) submitted: G-99a, G-99c.

(3) OMB Number: 3220-0151.

(4) Expiration date of current OMB clearance: 10/30/2001.

(5) Type of request: Extension of a currently approved collection.

(6) Respondents: Individuals or households.

(7) Estimated annual number of respondents: 6,000.

(8) Total annual responses: 6,535.

(9) Total annual reporting hours: 2,032.

(10) Collection description: Under Section 12(a) of the Railroad Retirement Act, the RRB is authorized to select, make payments to, and to conduct transactions with an annuitant's relative or some other person willing to act on behalf of the annuitant as a representative payee. The collection obtains information needed to determine if a representative payee is handling benefit payments in the best interest of the annuitant.

FOR FURTHER INFORMATION CONTACT: Copies of the forms and supporting documents can be obtained from Chuck Mierzwa, the agency clearance officer officer (312-751-3363). Comments regarding the information collection should be addressed to Ronald J. Hodapp, Railroad Retirement Board, 844 North Rush Street, Chicago, Illinois 60611-2092 and the OMB reviewer, Marcie Brown (202-395-7316), Office of Management and Budget, Room 10230, New Executive Office Building, Washington, D.C. 20503.

Chuck Mierzwa,
Clearance Officer.

[FR Doc. 01-19396 Filed 8-2-01; 8:45 am]

BILLING CODE 7905-01-M